DEPARTMENT OF HEALTH AND HUMAN SERVICES

National Institutes of Health

Submission for OMB Review; 30-Day Comment Request Collection of Customer Service, Demographic, and Smoking/Tobacco Use Information From the National Cancer Institute's Contact Center (CC) Clients (NCI)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received August 27, 2018.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

FOR FURTHER INFORMATION CONTACT: To request more information on the proposed project or to obtain a copy of the data collection plans and instruments, contact: Mary Anne Bright, Supervisory Public Health Advisor, CCPIB/OCPL, 9609 Medical Center Drive, Rockville, MD 20850, or call non-toll-free number 240-276-6647 or Email your request, including your address to: brightma@mail.nih.gov.

SUPPLEMENTARY INFORMATION: This proposed information collection was previously published in the Federal Register on May 14, 2018, page 22275 (83 FR 22275) and allowed 60 days for public comment. No public comments were received. The National Cancer Institute (NCI), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Collection of Customer Service, Demographic, and Smoking/Tobacco use Information from the National Cancer Institute's Contact Center (CC) Clients, 0925-0208 Expiration Date 04/30/2019, REVISION, National Cancer Institute (NCI), National Institutes of Health (NIH).

Need and Use of Information Collection: The National Cancer Institute (NCI) currently collects: (1) Customer service and demographic information from clients of the Contact Center (CC) in order to properly plan, implement, and evaluate cancer education efforts, including assessing the extent by which the CC reaches and impacts underserved populations; (2) smoking/tobacco use behavior of individuals seeking NCI's smoking cessation assistance through the CC in order to provide smoking cessation services tailored to the individual client's needs and track their smoking behavior at follow up. This is a request for OMB to approve a revised submission for an additional three years to provide ongoing customer service collection of demographic information, and collection of brief customer satisfaction questions from NCI Contact Center Clients for the purpose of program planning and evaluation.

OMB approval is requested for 3 years. There are no costs to respondents other than their time. The total estimated annualized burden hours are 1,875.

Estimated Annualized Burden Hours

Table A. 12-1—Estimate of Annual Burden Hours
Type of respondents | Survey instrument | Number of respondents | Frequency of responses | Average time per response (minutes/hour) | Annual burden hours
Telephone Clients (Appendix 1A) | Customer Service | 31,562 | 1 | 1/60 | 526
| Demographic & Customer Satisfaction Questions | 13,100 | 1 | 2/60 | 437
Smoking Cessation Clients | Smoking Cessation “Intake” Questions (Appendix 1C) | 3,380 | 1 | 6/60 | 338
| Customer Satisfaction Questions (Appendix 9) | 676 | 1 | 2/60 | 23
VA Smoking Cessation Clients | Call Backs (Appendix 1D) | 1,560 | 1 | 4/60 | 104
VA Follw Up Calls | Call Backs (Appendix 1E) | 936 | 1 | 4/60 | 62
LiveHelp Clients | Demographic & Customer Satisfaction Questions (Appendix 1B) | 6,236 | 1 | 2/60 | 208
Email Clients | Email Intake Form (Appendix 2) | 1,002 | 1 | 10/60 | 167
Total |  | 58,452 | 58,452 |  | 1,875

Dated: July 16, 2018.
Karla C. Bailey,
Project Clearance Liaison, National Cancer Institute, National Institutes of Health.

[FR Doc. 2018-16048 Filed 7-26-18; 8:45 am]

BILLING CODE 4140-01-P